DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before October 17, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC, or at http://regulations.gov.

This notice of receipt of applications for special permit is published in accordance with part 107 of the Federal hazardous materials transportation law (49 U.S.C. 5117(b); 49 CFR 1.53(b)).

Issued in Washington, DC, on September 9, 2019.
Donald P. Burger,
Chief, General Approvals and Permits Branch.

Application No. | Applicant | Regulation(s) affected | Nature of the special permits thereof
SPECIAL PERMITS DATA
20928-N | CATALYTIC INNOVATIONS, LLC | 172.102(c), 172.200, 172.300, 172.400, 173.159a(c)(2), 173.185(c)(1)(iii), 173.185(c)(1)(iv), 173.185(c)(1)(v), 173.185(c)(3) | To authorizes the manufacture, marking, sale and use of non-DOT specification fiberboard boxes for the transportation in commerce of certain batteries without shipping papers, marking of the proper shipping name and identification number or labeling, when transported for recycling or disposal. (modes 1, 2, 3)
20932-N | Jingjiang Asian-Pacific Logistics Equipment Co., Ltd | 178.274(b) | To authorize the manufacture, mark, sale, and use of portable tanks constructed to Section VIII, Division 2 of the ASME code. (modes 1, 2, 3)
20935-N | DAICEL SAFETY SYSTEMS AMERICAS, INC | 172.320, 173.54(a), 173.56(b), 173.57, 173.58, 173.60 | To authorize the transportation in commerce of explosive articles classed as Division 1.4S, when packed in a special shipping container without being approved in accordance with 173.56. (modes, 1, 2, 3, 4)
20936-N | CO2 Exchange LLC | 171.2(k) | To authorize the transportation in commerce of certain DOT 3AL, TC/3ALM and UN ISO 7866 cylinders that contain carbon dioxide, with alternative hazard communication. (mode 1)
20937-N | STAUFF CORPORATION | 173.302a(a)(1) | To authorize the transportation in commerce of non-DOT specification cylinders containing nitrogen. (modes 1, 2)
20939-N | AIRBUS SAFRAN LAUNCHERS | 172.101(c), 173.166 | To authorize the manufacture, mark, sale, and use of certain fire suppression devices as safety devices. (modes 1, 2, 3, 4, 5)
20940-N | ORBITAL SCIENCES CORPORATION | 172.101(j), 173.185(a) | To authorize the transportation in commerce of low production lithium ion batteries that exceed the 35 kg by cargo aircraft. (mode 4)
20941-N | AIR SEA CONTAINERS, INC | 173.185(b)(5) | To authorize the transportation in commerce of lithium ion batteries in non-specification packaging. (mode 1)

[FR Doc. 2019-20043 Filed 9-16-19; 8:45 am]

BILLING CODE 4909-60-P